FEDERAL COMMUNICATIONS COMMISSION

47 CFR Part 73

[FCC 02-35, MM Docket No. 90-66, RM-7139, RM-7368, RM-7369]

FM Broadcasting Services; Lincoln, Osage Beach, Steelville, and Warsaw, MO

AGENCY: Federal Communications Commission.

ACTION: Final rule; application for review denied.

SUMMARY: In this proceeding involving mutually exclusive proposals to amend the FM Table of Allotments, the Commission affirmed the staff's dismissal of a counterproposal filed by Twenty-One Sound Communications to upgrade its Station KNSX(FM), Steelville, Missouri, from Channel 227C2 to Channel 227C1 for failure to comply with the verification requirements of Section 1.52 of the Commission's Rules. The Commission also affirmed the grant of a mutually exclusive proposal to upgrade Station KYLC(FM), Osage Beach, Missouri, from Channel 228A to Channel 228C3. See 62 FR 25557 (May 9, 1997) and 61 FR 29311 (June 10, 1996). See also Supplemental Information.

FOR FURTHER INFORMATION CONTACT: Andrew J. Rhodes, Media Bureau, (202) 418-2180.

SUPPLEMENTARY INFORMATION: This is a summary of the Memorandum Opinion and Order, MM Docket 90-66, adopted February 8, 2002, and released March 25, 2002. The full text of this Commission decision is available for inspection and copying during normal business hours in the Commission's Reference Information Center (room CY-A257), 445 12th Street, SW., Washington, DC 20554. The complete text of this decision may be also purchased from the Commission's copy contractor, Qualex International Portals II, 445 12th Street, SW., Room CY-B402, Washington, DC, 20554.

Section 1.52 of the Commission's Rules requires that the original of any document filed with the Commission by a party not represented by counsel be signed and verified by the party and his or her address stated. Since Twenty-One Sound had failed to include an affidavit verifying that the statements contained in its counterproposal were true to the best of its knowledge, the counterproposal was dismissed. Twenty-One Sound had contended that the rule was unfairly applied to its counterproposal because it was filed before the Commission had announced that it would strictly apply the verification rule in allotment proceedings. The Commission disagreed, finding that in situations where the Commission waived the verification rule, it had done so if there would not be prejudice to another mutually exclusive proposal that had complied with the Commission's Rules. Since waiver of the verification rule in this case would prejudice a party that had filed a proposal compliant with the Commission's technical rules, Twenty-One Sound's counterproposal was properly dismissed.

List of Subjects in 47 CFR Part 73

Radio broadcasting.

Federal Communications Commission.
William F. Caton,
Acting Secretary.

[FR Doc. 02-8480 Filed 4-8-02; 8:45 am]

BILLING CODE 6712-01-P